DEPARTMENT OF TRANSPORTATION

Federal Aviation Administration

14 CFR Part 39

[Docket No. FAA-2022-1484; Project Identifier MCAI-2022-00897-G]

RIN 2120-AA64

Airworthiness Directives; Schempp-Hirth Flugzeugbau GmbH Gliders

AGENCY: Federal Aviation Administration (FAA), DOT.

ACTION: Notice of proposed rulemaking (NPRM).

SUMMARY: The FAA proposes to adopt a new airworthiness directive (AD) for all Schempp-Hirth Flugzeugbau GmbH Model Duo Discus and Duo Discus T gliders. This proposed AD results from mandatory continuing airworthiness information (MCAI) originated by an aviation authority of another country to identify and correct an unsafe condition on an aviation product. The MCAI identifies the unsafe condition as the airbrake becoming blocked or jammed in an extended position during high airspeed due to an incorrect adjustment on the airbrake system. This proposed AD would require repetitively inspecting the airbrake system and corrective action as necessary. The FAA is proposing this AD to address the unsafe condition on these products.

DATES: The FAA must receive comments on this NPRM by January 6, 2023.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2022-1484; or in person at Docket Operations between 9 a.m. and 5 p.m., Monday through Friday, except Federal holidays. The AD docket contains this NPRM, the MCAI, any comments received, and other information. The street address for Docket Operations is listed above.

Material Incorporated by Reference:

• For service information identified in this NPRM, contact Schempp-Hirth Flugzeugbau GmbH, Krebenstrasse 25, Kirchheim unter Teck, Germany; phone: +49 7021 7298-0; email: info@schempp-hirth.com; website: schempp-hirth.com.

• You may view this service information at the FAA, Airworthiness Products Section, Operational Safety Branch, 901 Locust, Kansas City, MO 64106. For information on the availability of this material at the FAA, call (817) 222-5110.

FOR FURTHER INFORMATION CONTACT: Jim Rutherford, Aviation Safety Engineer, General Aviation & Rotorcraft Section, International Validation Branch, FAA, 901 Locust, Room 301, Kansas City, MO 64106; phone: (816) 329-4165; email: jim.rutherford@faa.gov.

SUPPLEMENTARY INFORMATION:

Comments Invited

The FAA invites you to send any written relevant data, views, or arguments about this proposal. Send your comments to an address listed under ADDRESSES. Include “Docket No. FAA-2022-1484; Project Identifier MCAI-2022-00897-G” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Jim Rutherford, Aviation Safety Engineer, General Aviation & Rotorcraft Section, International Validation Branch, FAA, 901 Locust, Room 301, Kansas City, MO 64106. Any commentary that the FAA receives which is not specifically designated as CBI will be placed in the public docket for this rulemaking.

Background

The European Union Aviation Safety Agency (EASA), which is the Technical Agent for the Member States of the European Union, has issued EASA AD 2022-0138, dated July 7, 2022 (referred to after this as “the MCAI”), to correct an unsafe condition on all Schempp-Hirth Flugzeugbau GmbH Model Duo Discus, Duo Discus C, and Duo Discus T gliders. The MCAI states that an instance of the airbrake becoming blocked or jammed in an extended position during high airspeed on a Duo Discus glider occurred due to an incorrect adjustment on the airbrake system. A review of the manufacturer's maintenance manual revealed more maintenance information is needed to maintain the airbrake system in a serviceable condition. Accordingly, the MCAI requires repetitive inspections of the airbrake system and, depending on findings, accomplishing corrective actions in accordance with existing Schempp-Hirth Flugzeugbau GmbH maintenance instructions or instructions received by contacting Schempp-Hirth Flugzeugbau GmbH.

This condition, if not detected and corrected, could lead to blockage or jamming of the airbrake and result in reduced control of the glider.

You may examine the MCAI in the AD docket at regulations.gov under Docket No. FAA-2022-1484.

Related Service Information Under 1 CFR Part 51

The FAA reviewed Schempp-Hirth Flugzeugbau GmbH Maintenance Information SHK-M-01-22 for the Duo Discus and Duo Discus T airbrake system, dated January 26, 2022, which specifies procedures for inspecting and adjusting the airbrake system.

This service information is reasonably available because the interested parties have access to it through their normal course of business or by the means identified in ADDRESSES.

FAA's Determination

These products have been approved by the aviation authority of another country and are approved for operation in the United States. Pursuant to the FAA's bilateral agreement with this State of Design Authority, it has notified the FAA of the unsafe condition described in the MCAI and service information described above. The FAA is issuing this NPRM after determining that the unsafe condition described previously is likely to exist or develop on other products of these same type designs.

Proposed AD Requirements in This NPRM

This proposed AD would require accomplishing the actions specified in the MCAI, except as discussed under “Differences Between this Proposed AD and the MCAI.”

Differences Between This Proposed AD and the MCAI

The MCAI applies to Schempp-Hirth Flugzeugbau GmbH Model Duo Discus C gliders, and this proposed AD does not because this model does not have an FAA type certificate.

The MCAI requires accomplishing applicable corrective action in accordance with approved Schempp-Hirth Flugzeugbau GmbH maintenance instructions or contacting Schempp-Hirth Flugzeugbau GmbH for approved instructions and accomplishing those instructions accordingly. This proposed AD would require adjusting the airbrake system in accordance with a method approved by the FAA; EASA; or Schempp-Hirth Flugzeugbau GmbH's Design Organization Approval (DOA). If approved by the DOA, the approval must include the DOA-authorized signature.

The MCAI references incorporating maintenance tasks into the Schempp-Hirth Aircraft Maintenance Program (AMP) to ensure accomplishment of the tasks required in the MCAI. Because the AMP is not required by FAA regulations for U.S. operators of the affected gliders, the proposed AD does not reference this and the actions are contained within the proposed AD.

Costs of Compliance

The FAA estimates that this AD, if adopted as proposed, would affect 32 gliders of U.S. registry.

The FAA estimates the following costs to comply with this proposed AD:

Estimated Costs
Action | Labor cost | Parts cost | Cost per product | Cost on U.S. operators
Inspect airbrake system | 2 work-hours × $85 per hour = $170 | Not applicable | $170 per inspection cycle | $5,440 per inspection cycle.

The FAA estimates the following costs to do any necessary actions that would be required based on the results of the proposed inspection. The agency has no way of determining the number of gliders that might need this action:

On-Condition Costs
Action | Labor cost | Parts cost | Cost per product
Adjust airbrake system | 4 work-hours × $85 per hour = $340 | $200 | $540

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Schempp-Hirth Flugzeugbau GmbH: Docket No. FAA-2022-1484; Project Identifier MCAI-2022-00897-G.

(a) Comments Due Date

The FAA must receive comments on this airworthiness directive (AD) by January 6, 2023.

(b) Affected ADs

None.

(c) Applicability

This AD applies to Schempp-Hirth Flugzeugbau GmbH (Schempp-Hirth) Model Duo Discus and Duo Discus T gliders, all serial numbers, certificated in any category.

(d) Subject

Joint Aircraft System Component (JASC) Code 2760, Drag Control System.

(e) Unsafe Condition

This AD was prompted by mandatory continuing airworthiness information (MCAI) originated by an aviation authority of another country to identify and correct an unsafe condition on an aviation product. The MCAI identifies the unsafe condition as blocking or jamming of the airbrake. The FAA is issuing this AD to detect and correct such blockage or jamming of the airbrake system. The unsafe condition, if not addressed, could result in reduced control of the glider.

(f) Compliance

Comply with this AD within the compliance times specified, unless already done.

(g) Actions

(1) Within 12 months after the effective date of this AD and thereafter at intervals not to exceed 12 months, inspect the airbrake system for smooth operation, for sufficient airbrake panel overlap, and for proper cockpit control adjustment in accordance with Section I, and either II or III, depending on your glider configuration, of Schempp-Hirth Flugzeugbau GmbH Maintenance Information SHK-M-01-22 for the Duo Discus and Duo Discus T airbrake system, dated January 26, 2022.

Note 1 to paragraph (g)(1): Schempp-Hirth Flugzeugbau GmbH Technical Note 396-21, dated January 26, 2022; and Schempp-Hirth Flugzeugbau GmbH Technical Note 890-17, dated January 26, 2022, contain information related to this subject.

(2) If, during any inspection as required by paragraph (g)(1) of this AD, any part of the airbrake system is not properly adjusted, before further flight, adjust the airbrake system in accordance with a method approved by the FAA; the European Union Aviation Safety Agency (EASA); or Schempp-Hirth's Design Organization Approval (DOA). If approved by the DOA, the approval must include the DOA-authorized signature.

(h) Alternative Methods of Compliance (AMOCs)

The Manager, International Validation Branch, FAA, has the authority to approve AMOCs for this AD, if requested using the procedures found in § 39.19. In accordance with § 39.19, send your request to your principal inspector or local Flight Standards District Office, as appropriate. If sending information directly to the manager of the International Validation Branch, send it to the attention of the person identified in paragraph (i)(2) of this AD or email to: 9-AVS-AIR-730-AMOC@faa.gov. If mailing information, also submit information by email.

(i) Additional Information

(1) Refer to EASA AD 2022-0138, dated July 7, 2022, for related information. This EASA AD may be found in the AD docket at regulations.gov under Docket No. FAA-2022-1484.

(2) For more information about this AD, contact Jim Rutherford, Aviation Safety Engineer, General Aviation & Rotorcraft Section, International Validation Branch, FAA, 901 Locust, Room 301, Kansas City, MO 64106; phone: (816) 329-4165; email: jim.rutherford@faa.gov.

(3) Service information identified in this AD that is not incorporated by reference is available at the addresses specified in paragraphs (j)(3) and (4) of this AD.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Schempp-Hirth Flugzeugbau GmbH Maintenance Information SHK-M-01-22 for the Duo Discus and Duo Discus T airbrake system, dated January 26, 2022.

(ii) [Reserved]

(3) For service information identified in this AD, contact Schempp-Hirth Flugzeugbau GmbH, Krebenstrasse 25, Kirchheim unter Teck, Germany; phone: +49 7021 7298-0; email: info@schempp-hirth.com; website: schempp-hirth.com.

(4) You may view this service information at the FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on November 16, 2022.
Christina Underwood,
Acting Director, Compliance & Airworthiness Division, Aircraft Certification Service.

[FR Doc. 2022-25367 Filed 11-21-22; 8:45 am]

BILLING CODE 4910-13-P